FEDERAL COMMUNICATIONS COMMISSION

47 CFR Part 73

[DA 06-1757; MB Docket No. 05-111; RM-11200]

Radio Broadcasting Services; Cumberland Head, NY

AGENCY: Federal Communications Commission.

ACTION: Proposed rule; dismissal.

SUMMARY: The Audio Division has dismissed the request of Dana J. Puopolo (“Puopolo”) to allot Channel 264A at Cumberland Head, New York. Puopolo filed a petition for rulemaking proposing the allotment of Channel 264A at Cumberland Head, as the community's first local FM transmission service. The proposal was dismissed for inability to provide useable service to the community due to destructive interference from Canadian Station CBF-FM.

FOR FURTHER INFORMATION CONTACT: Deborah Dupont, Media Bureau, (202) 418-2180.

SUPPLEMENTARY INFORMATION: This is a synopsis of the Commission's Report and Order, MB Docket No. 05-111, adopted August 31, 2006, and released September 5, 2006. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. This document is not subject to the Congressional Review Act. The Commission is, therefore, not required to send a copy of this Report and Order in a report to be sent to Congress and the Government Accountability Office pursuant to the Congressional Review Act, see 5 U.S.C. 801(a)(1)(A), because the proposed rule was dismissed.

Federal Communications Commission.
John A. Karousos,
Assistant Chief, Audio Division Media Bureau.

[FR Doc. E6-15531 Filed 9-19-06; 8:45 am]

BILLING CODE 6712-01-P